FEDERAL COMMUNICATIONS COMMISSION

Notice of Public Information Collection(s) Being Reviewed by the Federal Communications Commission

October 17, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 5, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0743.

Title: Implementation of the Pay Telephone Reclassification and Compensation Provisions of the Telecommunications Act of 1996, CC Docket No. 96-128.

Form No: N/A.

Type of Review: Extension of a currently approved collection.

Respondents: Business or other for-profit.

Number of Respondents: 5,145 respondents, 6,345 responses.

Estimated Time Per Response: 29 hours (average).

Frequency of Response: Recordkeeping requirement, third party disclosure requirements, and on occasion, quarterly, annually, and other reporting requirements.

Total Annual Burden: 152,801 hours.

Total Annual Cost: N/A.

Needs and Uses: The Commission promulgated rules and requirements implementing Section 276 of the Telecommunications Act of 1996. Among other things, the rules: (1) Established fair compensation for every completed intrastate and interstate payphone cell; (2) discontinued intrastate and interstate access charge payphone service elements and payments, and intrastate and interstate payphone subsidies from basic exchange services; and (3) adopted guidelines for use by the states in establishing public interest payphones to be located where there would otherwise not be a payphone.

OMB Control No.: 3060-0951.

Title: Service of Petitions for Preemption, 47 CFR Sections 1.1204(b) Note, and 1.1206(a) Note 1.

Form No: N/A.

Type of Review: Extension of a currently approved collection.

Respondents: Business or other for-profit, individuals or household, not-for-profit institutions and State, Local and Tribal Government.

Number of Respondents: 125.

Estimated Time Per Response: .25 hours (15 minutes).

Frequency of Response: On occasion reporting and third party disclosure requirements.

Total Annual Burden: 30 hours.

Total Annual Cost: N/A.

Needs and Uses: These provisions supplement the procedures for filing petitions seeking Commission preemption of state and local government regulation of telecommunications services. They require that such petitions, whether in the form of a petition for rulemaking or a petition for declaratory ruling, be served on all state and local governments the actions for which are cited as the basis for requesting preemption. Thus, in accordance with these provisions, persons seeking preemption must serve their petitions not only on the state or local government whose authority would be preempted, but also on other state or local governments whose actions are cited in the petition.

Federal Communications Commission.
Marlene H. Dortch,
Secretary.

[FR Doc. 03-27738 Filed 11-4-03; 8:45 am]

BILLING CODE 6712-01-P